DEPARTMENT OF AGRICULTURE

Forest Service

Ontonagon Resource Advisory Committee

AGENCY: Forest Service, USDA.

ACTION: Notice of meeting.

SUMMARY: The Ontonagon Resource Advisory Committee will meet in Ewen, Michigan. The Committee is meeting as authorized under the Secure Rural Schools and Community Self-Determination Act (Pub. L. 110-343) and in compliance with the Federal Advisory Committee Act. The purpose is to review and make recommendations on Title II Projects submitted by the public.

DATES: The meeting will be held on February 11, 2011, and will begin at 9:30 a.m. (EST).

ADDRESSES: The meeting will be held at the Ewen-Trout Creek High School, 14312 Airport Road, Ewen, Michigan. Written comments should be sent to Lisa Klaus, Ottawa National Forest, E6248 U.S. Hwy. 2, Ironwood, MI 49938. Comments may also be sent via e-mail to lklaus@fs.fed.us or via facsimile to 906-932-0122.

All comments, including names and addresses when provided, are placed in the record and are available for public inspection and copying. The public may inspect comments received at Ottawa National Forest, E6248 U.S. Hwy. 2, Ironwood, MI 49938.

FOR FURTHER INFORMATION CONTACT: Lisa Klaus, RAC coordinator, USDA, Ottawa National Forest, E6248 U.S. Hwy. 2, Ironwood, MI, (906) 932-1330, ext. 328; e-mail lklaus@fs.fed.us.

Individuals who use telecommunication devices for the deaf (TDD) may call the Federal Information Relay Service (FIRS) at 1-800-877-8339 between 8 a.m. and 8 p.m., Eastern Standard Time, Monday through Friday.

SUPPLEMENTARY INFORMATION: This meeting is open to the public. The following business will be conducted: (1) Review and approval of previous meeting minutes. (2) Review and approval of Operating Guidelines and Title II Project Evaluation Criteria. (3) Review and make recommendations for Title II Projects submitted by the public. (4) Public comment. Persons who wish to bring related matters to the attention of the Committee may file written statements with the Committee staff before or after the meeting.

Dated: January 10, 2011.
Randal D. Charles,
Acting Designated Federal Officer.

[FR Doc. 2011-869 Filed 1-14-11; 8:45 am]

BILLING CODE 3410-11-P